DEPARTMENT OF THE INTERIOR

Central Utah Project Completion Act

AGENCY: Office of the Assistant Secretary—Water and Science, Department of the Interior.

ACTION: Notice of termination of a lease of the power privilege process for the Diamond Fork Area of the Central Utah Project.

SUMMARY: The process for non-federal development of hydroelectric power in the Diamond Fork area was established through a Federal Register Notice (FRN) published December 19, 1994. The FRN announced the Department of Interior's (Interior) intent to issue a lease of power privilege in the Diamond Fork area, Utah.

The FRN presented background information, proposal content guidelines, information concerning the selection of a non-federal entity to develop hydroelectric power in the Diamond Fork area, and power purchasing and/or marketing considerations. The FRN also established a deadline for a potential lessee to enter into a lease with the United States as 5 years after notification of the selection of a potential lessee.

On May 1, 1995, two proposals were received in response to the FRN that specifically focused on CUP Diamond Fork System facilities. One proposal was submitted by the Western States Power Corporation and another by a joint partnership of the Strawberry Water Users Association (SWUA) and the Central Utah Water Conservancy District (CUWCD). The proposals were reviewed, and a recommendation was made, by a team consisting of individuals from the Bureau of Reclamation, Western Area Power Administration, Bonneville Power Administration, and the Army Corps of Engineers.

On May 1, 1996, Interior made notification of the selection of SWUA/CUWCD as the successful potential joint lessee for the Diamond Fork System lease of power privilege. This notification established the deadline for entering into a lease with the United States as May 1, 2001.

Since the deadline for entering into a lease has now passed and a lease has not been negotiated and executed, Interior has rescinded the selection of SWUA/CUWCD as the successful potential joint lessee and has terminated this lease of power privilege process for the Diamond Fork System.

FOR FURTHER INFORMATION CONTACT: Additional information on matters related to this Federal Register notice can be obtained by contacting Mr. Reed Murray, Program Coordinator, CUP Completion Act Office, Department of the Interior, 302 East 1860 South, Provo, UT 84606-6154, Telephone: (801) 379-1237, E-Mail: rmurray@uc.usbr.gov.

Dated: June 22, 2001.
Ronald Johnston,
CUP Program Director, Department of the Interior.

[FR Doc. 01-16398 Filed 6-28-01; 8:45 am]

BILLING CODE 4310-RK-P